DEPARTMENT OF DEFENSE

Office of the Secretary

[Docket ID: DoD-2009-OS-0190]

Proposed Collection; Comment Request

AGENCY: Office of the Assistant Secretary of Defense for Personnel and Readiness, DoD.

ACTION: Notice.

SUMMARY: In compliance with section 3506(c)(2)(A) of the Paperwork Reduction Act of 1995, the Office of the Assistant Secretary of Defense for Personnel and Readiness proposes to extend a public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 1, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Air Force Review Boards Agency, 1535 Command Drive, Andrews AFB ATTN. Mr. Victor Donovan MD 20732, or call Air Force Review Boards Agency, at (240) 857-3137.

Title; Associated Form; and OMB Number: Application for a Review by the Physical Disability Board of Review of the Rating for a Medical Separation from the Armed Forces of the United States; DD Form 294; OMB Number 0704-0453.

Needs and Uses: The information collection requirement is necessary to have former members who were separated from the armed forces from between September 11, 2001 and December 31, 2009 due to unfitness for duty due to a medical condition with a disability rating of 20 percent disabled or less; and were found to be not eligible for retirement request a review of that determinations in accordance with the provisions of 10 Unites States Code Section 1554a.

Affected Public: Former service members requesting a review.

Annual Burden Hours: 1,350.

Number of Respondents: 1,800.

Responses per Respondent: 1.

Average Burden per Response: 45 minutes.

Frequency: On occasion.

SUPPLEMENTARY INFORMATION:

Summary of Information Collection

Respondents are those members as described above who request a review of the rating of their medical separation rating. The completed form triggers the review. If the form is not completed, it may jeopardize or delay the Agency's ability to accomplish the requested review.

Dated: December 28, 2009.
Mitchell S. Bryman,
Alternate OSD Federal Register Liaison Officer, Department of Defense.

[FR Doc. E9-31044 Filed 12-30-09; 8:45 am]

BILLING CODE 5001-06-P